NUCLEAR REGULATORY COMMISSION

[Docket No. 030-29462]

Notice of Availability of Environmental Assessment and Finding of No Significant Impact for License Amendment to Byproduct Master Materials License No. 45-23645-01NA, for Amendment of the License and Unrestricted Release of the Navy's Facility in Keyport, WA

AGENCY: Nuclear Regulatory Commission.

ACTION: Issuance of Environmental Assessment and Finding of No Significant Impact for License Amendment.

FOR FURTHER INFORMATION CONTACT: Orysia Masnyk Bailey, Health Physicist, Materials Security & Industrial Branch, Division of Nuclear Materials Safety, Region I, 475 Allendale Road, King of Prussia, Pennsylvania 19401; phone number (864) 427-1032; fax number (610) 680-3497; or by e-mail: omm@nrc.gov.

SUPPLEMENTARY INFORMATION:

I. Introduction

The U.S. Nuclear Regulatory Commission (NRC) is considering the issuance of a license amendment to Byproduct Master Materials License No. 45-23645-01NA. This license is held by the Department of the Navy (the Licensee), for various locations including its Naval Undersea Warfare Center Division (the Facility), located in Keyport, Washington. Issuance of the amendment would authorize release of Building 5003 at the Facility for unrestricted use. The Licensee requested this action in a letter dated October 11, 2005. The NRC has prepared an Environmental Assessment (EA) in support of this proposed action in accordance with the requirements of Title 10, Code of Federal Regulations (CFR), Part 51 (10 CFR Part 51). Based on the EA, the NRC has concluded that a Finding of No Significant Impact (FONSI) is appropriate with respect to the proposed action. The amendment will be issued to the Licensee following the publication of this FONSI and EA in the Federal Register.

II. Environmental Assessment

Identification of Proposed Action

The proposed action would approve the Licensee's October 11, 2005, license amendment request, resulting in release of Building 5003 at the Facility for unrestricted use. License No. 45-23645-01NA was issued on March 23, 1987, pursuant to 10 CFR Part 30, and has been amended periodically since that time. The Naval Undersea Warfare Center was authorized under the Navy's Master Materials License from 1987 through 1994 to use unsealed radioactive materials (Krypton 85) in a RADIFLO leak test unit at the site. From 1976 to 1987, the same licensed material was used at the site under NRC License No. 46-09611-03.

Building 5003 is a one story structure, approximately 60 feet by 31 feet, with one to two foot thick outer and inner concrete walls. The RADIFLO unit was contained in a 10 by 17 foot room that was ventilated by a separate filtered air exhaust system leading to the roof and outer environs. The building is located in an isolated area of the Naval Undersea Warfare Center. NRC-licensed activities performed at the Naval Undersea Warfare Center were limited to the use of Krypton 85 gas in a RADIFLO leak test unit. Impacted areas were contained within the leak test unit. The leak test unit, including the three tanks containing the Krypton 85, and exhaust venting within the room were removed. While Krypton 85 was released to the environment during operation, because it is a noble gas, no contamination remains.

In 1994, the Licensee ceased licensed activities and initiated a survey and decontamination of the Facility. Based on the Licensee's historical knowledge of the site and the conditions of the Facility, the Licensee determined that only routine decontamination activities, in accordance with their NRC-approved, operating radiation safety procedures, were required. The Licensee was not required to submit a decommissioning plan to the NRC because worker cleanup activities and procedures are consistent with those approved for routine operations. The Licensee conducted surveys of the Facility and provided information to the NRC to demonstrate that it meets the criteria in Subpart E of 10 CFR Part 20 for unrestricted release.

Need for the Proposed Action

The Licensee has ceased conducting licensed activities at the Facility, and seeks the unrestricted use of its Facility.

Environmental Impacts of the Proposed Action

The historical review of licensed activities conducted at the Facility shows that such activities involved use of the following radionuclides with half-lives greater than 120 days: Krypton 85. Prior to performing the final status survey, the Licensee removed the RADIFLO unit and associated air exhaust system.

The Licensee conducted a final status survey of Building 5003 on November 15, 2004. The final status survey report was attached to the Licensee's amendment request dated October 11, 2005. The Licensee elected to demonstrate compliance with the radiological criteria for unrestricted release as specified in 10 CFR 20.1402 by using the screening approach described in NUREG-1757, “Consolidated NMSS Decommissioning Guidance,” Volume 2. Krypton 85 is a noble gas that would only have accumulated within the RADIFLO device which was removed. The maximum radiation levels detected at the facility were at natural background levels. The NRC concludes that the Licensee's final status survey results are acceptable.

Based on its review, the staff has determined that the affected environment and any environmental impacts associated with the proposed action are bounded by the impacts evaluated by the “Generic Environmental Impact Statement in Support of Rulemaking on Radiological Criteria for License Termination of NRC-Licensed Nuclear Facilities” (NUREG-1496) Volumes 1-3 (ML042310492, ML042320379, and ML042330385). Accordingly, there were no significant environmental impacts from the use of radioactive material at the Facility. The NRC staff reviewed the docket file records and the final status survey report to identify any non-radiological hazards that may have impacted the environment surrounding the Facility. No such hazards or impacts to the environment were identified. The NRC has found no other radiological or non-radiological activities in the area that could result in cumulative environmental impacts.

The NRC staff finds that the proposed release of the Facility for unrestricted use is in compliance with 10 CFR 20.1402. Based on its review, the staff considered the impact of the residual radioactivity at the Facility and concluded that the proposed action will not have a significant effect on the quality of the human environment.

Environmental Impacts of the Alternatives to the Proposed Action

Due to the largely administrative nature of the proposed action, its environmental impacts are small. Therefore, the only alternative the staff considered is the no-action alternative, under which the staff would leave things as they are by simply denying the amendment request. This no-action alternative is not feasible because it conflicts with 10 CFR 30.36(d), requiring that decommissioning of byproduct material facilities be completed and approved by the NRC after licensed activities cease. The NRC's analysis of the Licensee's final status survey data confirmed that the Facility meets the requirements of 10 CFR 20.1402 for unrestricted release. Additionally, this denial of the application would result in no change in current environmental impacts. The environmental impacts of the proposed action and the no-action alternative are therefore similar, and the no-action alternative is accordingly not further considered.

Conclusion

The NRC staff has concluded that the proposed action is consistent with the NRC's unrestricted release criteria specified in 10 CFR 20.1402. Because the proposed action will not significantly impact the quality of the human environment, the NRC staff concludes that the proposed action is the preferred alternative.

Agencies and Persons Consulted

NRC provided a draft of this Environmental Assessment to the Washington State Department of Health, Office of Radiation Protection for review on October 31, 2006. On November 6, 2006, the Washington State Department of Health, Office of Radiation Protection responded by electronic mail. The State agreed with the conclusions of the EA, and provided editorial comments.

The NRC staff has determined that the proposed action is of a procedural nature, and will not affect listed species or critical habitat. Therefore, no further consultation is required under Section 7 of the Endangered Species Act. The NRC staff has also determined that the proposed action is not the type of activity that has the potential to cause effects on historic properties. Therefore, no further consultation is required under Section 106 of the National Historic Preservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for license amendment and supporting documentation, are available electronically at the NRC's Electronic Reading Room at http://www.nrc.gov/reading-rm/adams.html. From this site, you can access the NRC's Agencywide Document Access and Management System (ADAMS), which provides text and image files of NRC's public documents. The documents related to this action are listed below, along with their ADAMS accession numbers.

1. NUREG-1757, “Consolidated NMSS Decommissioning Guidance;”

2. Title 10 Code of Federal Regulations, Part 20, Subpart E, “Radiological Criteria for License Termination;”

3. Title 10, Code of Federal Regulations, Part 51, “Environmental Protection Regulations for Domestic Licensing and Related Regulatory Functions;”

4. NUREG-1496, “Generic Environmental Impact Statement in Support of Rulemaking on Radiological Criteria for License Termination of NRC-Licensed Nuclear Facilities;”

5. NRC License No. 45-23645-01NA inspection and licensing records;

6. Department of the Navy, Termination of Naval Radioactive Materials Permit No. 46-00253-B1NP Issued to Naval Undersea Warfare Center Division, Keyport, Washington, dated October 11, 2005 (ML052970305); and

7. Department of the Navy, Final Status Survey for Naval Undersea Warfare Center and supporting documentation, dated December 15, 2004 (ML060390731).

If you do not have access to ADAMS, or if there are problems in accessing the documents located in ADAMS, contact the NRC Public Document Room (PDR) Reference staff at 1-800-397-4209, 301-415-4737, or by email to pdr@nrc.gov. These documents may also be viewed electronically on the public computers located at the NRC's PDR, O 1 F21, One White Flint North, 11555 Rockville Pike, Rockville, MD 20852. The PDR reproduction contractor will copy documents for a fee.

Dated at King of Prussia this 5th day of December 2006.
For The Nuclear Regulatory Commission.
Marie Miler,
Chief, Materials Security & Industrial Branch, Division of Nuclear Materials Safety, Region I.

[FR Doc. E6-21355 Filed 12-14-06; 8:45 am]

BILLING CODE 7590-01-P